DEPARTMENT OF COMMERCE

National Oceanic and Atmospheric Administration

[Docket No: 050511129-5129-01]

Notice of Availability for License and Intent To Grant Co-Exclusive Patent Licenses

AGENCY: National Oceanic and Atmospheric Administration, Department of Commerce.

ACTION: Notice and request for comments.

SUMMARY: The Environmental Technology Laboratory, Oceanic and Atmospheric Research Laboratories, National Oceanic and Atmospheric Administration publish this notice to announce the intent to grant Vaisala, Inc. and Sonoma Technology Inc. co-exclusive licenses. Through this notice, NOAA solicits comments on this action to ensure that the granting of these licenses is consistent with statutory provisions related to the licensing of federally owned inventions.

DATES: All comments are due by August 26, 2005.

ADDRESSES: All comments and applications must be mailed to: John H. Raubitschek, Patent Counsel, Department of Commerce, Room 4835, HCHB, Washington DC 20230.

FOR FURTHER INFORMATION CONTACT: For further information, please contact Mr. Raubitschek at 202-482-8010.

SUPPLEMENTARY INFORMATION: Pursuant to 35 U.S.C. 209(e), the Environmental Technology Laboratory, Oceanic and Atmospheric Research Laboratories publish this notice to announce its intent to grant Vaisala, Inc. and Sonoma Technology, Inc. co-exclusive licenses to the following patents:

U.S. Patent 5,592,171 entitled “Wind Profiling Radar”

U.S. Patent 5,872,535 entitled “Removing Buoy Motion from Wind Profiler Moment”

U.S. Patent 6,753,807 entitled “Combination N-way Power Divider/Combiner and Noninvasive Reflected Power Detection

The proposed co-exclusive licenses will be royalty bearing and will comply with the terms and conditions of 35 U.S.C. 209 and 37 CFR 404.7. The proposed licenses may be granted unless written evidence is received that establishes that the grant of the licenses would not be consistent with 35 U.S.C. 209. Any comments, including an application for a license in any or all of the above-identified patents, must be mailed to the individual listed in the ADDRESSES heading.

Dated: May 3, 2005.
Louisa Koch,
Deputy Assistant Administrator, OAR.

[FR Doc. 05-10555 Filed 5-25-05; 8:45 am]

BILLING CODE 3510-65-P